DEPARTMENT OF AGRICULTURE

Rural Business-Cooperative Service

Notice of Request for Extension of a Currently Approved Information Collection

AGENCY: Rural Business-Cooperative Service, USDA.

ACTION: Proposed collection; Comments requested.

SUMMARY: In accordance with the Paperwork Reduction Act of 1995, this notice announces Rural Development's Cooperative Programs intention to request an extension for a currently approved information collection in support of the program for 7 CFR part 25 Rural Empowerment Zones and Enterprise Communities (EZ/EC).

DATES: Comments on this notice must be received March 9, 2009 to be assured of consideration.

FOR FURTHER INFORMATION CONTACT: Suzette Agans, Rural Development Specialist, Cooperative Programs, Rural Development, USDA, STOP 3254, 1400 Independence Avenue, SW., Washington, DC 20250-3254, or by e-mail: suzette.agans@wdc.usda.gov, Telephone: (202) 401-1922.

SUPPLEMENTARY INFORMATION: Title: Rural Empowerment Zones and Enterprise Communities (EZ/EC).

OMB Number: 0570-0027.

Expiration Date of Approval: May 31, 2009.

Type of Request: Extension for a currently approved information collection.

Abstract: This information is collected in order to monitor funding requests, outputs and outcomes of the Program; and to adhere to the reporting regulations requirements outlined in 7 CFR Parts 25, 3016, and 3019.

Estimate of Burden: Public reporting burden for this collection of information is estimated to average 10 hours per response.

Respondents: Rural Empowerment Zones, Rural Enterprise Communities and Champion Communities.

Estimated Number of Respondents: 67.

Estimated Number of Responses per Respondent: 2.

Estimated Number of Responses: 150.

Estimated Total Annual Burden on Respondents: 1,616 hours.

Copies of this information collection can be obtained from Cheryl Thompson, Regulations and Paperwork Management Branch, Support Services Division at (202) 692-0043.

Comments:

Comments are invited on: (a) Whether the proposed collection of information is necessary for the proper performance of the functions of the Office of the Secretary, including whether the information will have practical utility; (b) the accuracy of the Office of the Secretary's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent to Cheryl Thompson, Regulations and Paperwork Management Branch, Support Services Division, U.S. Department of Agriculture, Rural Development, STOP 0742, 1400 Independence Ave., SW., Washington, DC 20250-0742. All responses to this notice will be summarized and included in the request for OMB approval. All comments will also become a matter of public record.

Dated: December 29, 2008.
LeAnn M. Oliver,
Acting Administrator, Rural Business-Cooperative Service.

[FR Doc. E9-64 Filed 1-7-09; 8:45 am]

BILLING CODE 3410-XY-P